DEPARTMENT OF ENERGY

Federal Energy Regulatory Commission

[Docket No. EG01-10-000, et al.]

Doswell Limited Partnership, et al.; Electric Rate and Corporate Regulation Filings

October 26, 2000.

Take notice that the following filings have been made with the Commission:

1. Doswell Limited Partnership

[Docket No. EG01-10-000]

Take notice that on October 24, 2000, Doswell Limited Partnership (Doswell) filed with the Commission an application for redetermination of exempt wholesale generator (EWG) status pursuant to Part 365 of the Commission's regulations. Doswell has previously been determined to be an EWG. This filing is occasioned by two nonmaterial changes in fact. First, Doswell's upstream ownership structure has changed. Second, Doswell has plans to finance, construct and own a new electric generation facility located adjacent to the existing Doswell Complex in Hanover County, Virginia.

Comment date: November 16, 2000, in accordance with Standard Paragraph E at the end of this notice. The Commission will limit its consideration of comments to those that concern the adequacy or accuracy of the application.

2. Cleco Evangeline LLC

[Docket No. EL01-9-000]

Take notice that on October 24, 2000, Cleco Evangeline LLC tendered for filing a request for waiver of the Commission's open access transmission tariff and OASIS requirements to the extent required in connection with Cleco Evangeline LLC's ownership of interconnection facilities (generation step-up transformers and 138 kV bus facilities) located at the plant site where Cleco Evangeline LLC's generators are located.

Comment date: November 24, 2000, in accordance with Standard Paragraph E at the end of this notice.

3. Denver City Energy Associates, L.P.

[Docket No. ER97-4084-007]

Take notice that on October 17, 2000, Denver City Energy Associates, L.P. (DCE) filed a Report of Changes in Status and Updated Market Power Analysis, notifying the Commission of certain changes in its affiliation with various generating companies, as a result of indirect acquisitions and dispositions by its affiliates. DCE also noted that it has changed its principal place of business and that none of its affiliates currently holds an interest in electric generating capacity for which construction commenced on or before July 9, 1996.

Comment date: November 6, 2000, in accordance with Standard Paragraph E at the end of this notice.

4. GEN~SYS Energy

[Docket No. ER97-4335-005]

Take notice that on October 20, 2000, GEN~SYS Energy (GEN~SYS) submitted an updated market power analysis.

Comment date: November 13, 2000, in accordance with Standard Paragraph E at the end of this notice.

5. West Georgia Generating Company L.P.

[Docket No. ER00-2965-003]

Take notice that on October 18, 2000, West Georgia Generating Company (West Georgia), an Exempt Wholesale Generator that owns and operates a 640 MW electric generation plant in Thomastown, Georgia, tendered for filing a confidential copy and redacted copies of a Negotiated Contract for the Purchase of Firm Capacity and Energy between Cataula Generating Company L.P., a predecessor in interest to West Georgia Generating Company L.P., and Georgia Power Company (the Agreement). The purpose of the filing was to provide corrected designations under Order No. 614, FERC Stats. and Regs. ¶31,096 (2000), as required by the letter order issued in these dockets on September 21, 2000.

West Georgia requests that the Agreement be permitted to become effective June 1, 2000.

Comment date: November 8, 2000, in accordance with Standard Paragraph E at the end of this notice.

6. West Georgia Generating Company L.P.

[Docket No. ER00-2966-003]

Take notice that on October 18, 2000, West Georgia Generating Company (West Georgia), an Exempt Wholesale Generator that owns and operates a 640 MW electric generation plant in Thomastown, Georgia, tendered for filing a confidential copy and redacted copies of a Power Purchase Agreement between West Georgia Generating Company L.P. and Municipal Electric Authority of Georgia (the Agreement). The purpose of the filing was to provide corrected designations under Order No. 614, FERC Stats. and Regs. ¶31,096 (2000), as required by the letter order issued in these dockets on September 21, 2000.

West Georgia requests that the Agreement be permitted to become effective June 1, 2000.

Comment date: November 8, 2000, in accordance with Standard Paragraph E at the end of this notice.

7. The Dayton Power and Light Company

[Docket No. ER01-182-000]

Take notice that on October 23, 2000, The Dayton Power and Light Company (Dayton) submitted service agreement establishing The Detroit Edison Company as customers under the terms of Dayton's Open Access Transmission Tariff.

Dayton requests an effective date of one day subsequent to this filing for the service agreements. Accordingly, Dayton requests waiver of the Commission's notice requirements.

Copies of this filing were served upon The Detroit Edison Company and the Public Utilities Commission of Ohio.

Comment date: November 13, 2000, in accordance with Standard Paragraph E at the end of this notice.

8. Wisconsin Electric Power Company

[Docket No. ER01-183-000]

Take notice that on October 23, 2000, Wisconsin Electric Power Company (Wisconsin Electric) tendered for filing an electric service agreement under its Coordination Sales Tariff (FERC Electric Tariff, First Revised Volume No. 2).

Wisconsin Electric respectfully requests an effective date of October 23, 2000 to allow for economic transactions.

Copies of the filing have been served on Madison Gas and Electric Company, the Michigan Public Service Commission, and the Public Service Commission of Wisconsin.

Comment date: November 23, 2000, in accordance with Standard Paragraph E at the end of this notice.

9. Potomac Power Resources, Inc.

[Docket No. ER01-202-000]

Take notice that on October 23, 2000, Potomac Power Resources, Inc. tendered for filing pursuant to Rule 205 of the Federal Power Act an application for authorization to sell capacity, energy and ancillary services at market-based rate and requests for waivers of certain regulations and blanket approvals.

Comment date: November 13, 2000, in accordance with Standard Paragraph E at the end of this notice.

10. A. R. Mullinax

[Docket No. ID-3588-000]

Take notice that on October 12, 2000, A. R. Mullinax filed an application for authorization under Section 305(b) of the Federal Power Act to hold the following positions:

Officer: Duke Energy Corporation.

Director: Pantellos Corporation.

Comment date: November 13, 2000, in accordance with Standard Paragraph E at the end of this notice.

11. Mobile Energy Services Company, L.L.C.

[Docket No. QF01-13-000]

Take notice that on October 25, 2000, Mobile Energy Services Company, L.L.C. (MESC), filed an Application with the Commission. The Application seeks a determination that a cogeneration facility owned and operated by MESC qualifies as a qualifying cogeneration facility. MESC is an Alabama limited liability company that owns and operates a gas-fired combined cycle cogeneration facility rated at approximately 110-MW (gross) capacity. Copies of this application have been served upon the Alabama Public Service Commission and the Securities and Exchange Commission.

Comment date: November 24, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28324 Filed 11-3-00; 8:45 am]

BILLING CODE 6717-01-P